DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of May and June 2005.

In order for an affirmative determination to be made and a certification of eligibility to apply for directly-impacted (primary) worker adjustment assistance to be issued, each of the group eligibility requirements of Section 222(a) of the Act must be met.

I. Section (a)(2) (A) all of the following must be satisfied:

A. a significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a) (2) (B) both of the following must be satisfied:

A. a significant number or proportion of the workers in such workers' firm, or an appropriate subdivision of the firm, have become totally or partially separated, or are threatened to become totally or partially separated;

B. there has been a shift in production by such workers' firm or subdivision to a foreign county of articles like or directly competitive with articles which are produced by such firm or subdivision; and

C. One of the following must be satisfied:

1. the country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) significant number or proportion of the workers in the workers' firm or an appropriate subdivision of the firm have become totally or partially separated, or are threatened to become totally or partially separated;

(2) the workers' firm (or subdivision) is a supplier or downstream producer to a firm (or subdivision) that employed a group of workers who received a certification of eligibility to apply for trade adjustment assistance benefits and such supply or production is related to the article that was the basis for such certification; and

(3) either—

(A) the workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a) (2) (B) (II.B) (No shift in production to a foreign country) have not been met.

TA-W-57,016; Smurfit-Stone Container, Container Div., Statesville, NC

TA-W-57,088; Cenveo, d/b/a Mailwell Graphics, Cambridge, MD

TA-W-57,013; Fiberzone Technologies, Inc., a div. of Aqua Dynamics Systems, Inc., Adamsville, TN

TA-W-56,907; Energy Conversion Systems, LLC, a/k/a Morganite, Inc., Carbon Division, Dunn, NC

TA-W-56,786; Hardwood Products Company, LLC, Guilford, ME

TA-W-57,129; ADM Milling Company, Wellsburg, WV

TA-W-57,154; Victaulic Company of America, Easton, PA

TA-W-57,073; Koplin Optical, Inc., 200 John Hancock Road, a subsidiary of Koplin Corp., Taunton, MA

TA-W-57,066; Second Chance Body Armor, Inc., Michigan Manufacturing Div., Central Lake, MI

TA-W-57,060; Wolf Range Co., A Business Unit of Illinois Tool Works (ITW), Compton, CA

TA-W-57,047; Woodbridge Corp., a div. of Woodbridge Holdings, Inc., Brodhead, WI

TA-W-56,991; Graham Packaging Plastic Products, Inc., Household Business Unit, St. Louis, MO

TA-W-57,103; Automatic Technology, Inc., Charlotte, NC

TA-W-56,797; General Electric, Motors and Controls Div., Taylor Street Location, Fort Wayne, IN: All workers engaged in activities related to the production of enameled wire

The investigation revealed that criteria (a)(2)(A)(I.B.) (Sales or production, or both, did not decline) and (a)(2)(B)(II.B) (No shift in production to a foreign country) have not been met.

TA-W-57,170; Ludlow Textiles Company, Ludlow, MA

The investigation revealed that criterion (a)(2)(A)(I.A) and (a)(2)(B)(II.A) (no employment decline) has not been met.

TA-W-57,198; Neasi-Weber International, Houston, TX

TA-W-57,043; Haz-Waste, Inc., Working on-site at Continental Tire North America, Mayfield, KY

TA-W-56,795; Aventis, Inc., Commercial Operations, Bridgewater, NJ

TA-W-57,164; Epson Portland, Inc., a subsidiary of Seiko Epson Corporation, including on site production workers of Volt Services, Hillsboro, OR

TA-W-56,816; Hewlett Packard Co., Ink Supplies Business Div., Boise, ID, A; Imaging and Printing Group Business and Printing, Boise, ID, B; Imaging and Printing Group Business and Printing, Roseville, CA and C; Imaging and Printing Group Business and Printing, Vancouver, WA

TA-W-57,125; Teleflex Medical Research Triangle Park, NC

TA-W-56,887; Century Moulding Company, Hood River, OR

TA-W-57,192; Laser Tool Co., Saegertown, PA

TA-W-57,015; Honeywell, Inc., ACS: Sensing & Control Div., Flex Heaters and Flex Fab, including on-site leased workers of Manpower, Inc., and Metz Personnel, Pawtucket, RI, A; Support Staff, including on-site leased workers of Manpower, Inc., and Metz Personnel, Pawtucket, RI, B; Thermal Cut Offs (TCO), including on-site leased workers of Manpower, Inc., and Metz Personnel, Pawtucket, RI and C; Thermistor/Probe, including on-site leased workers of Manpower, Inc., and Metz Personnel, Pawtucket, RI

TA-W-56,797B; General Electric, Components-Specialty Transformer Div., College Street Location, Fort Wayne, IN

The workers firm does not produce an article as required for certification under Section 222 of the Trade Act of 1974.

TA-W-57,176; Oneida Home Store, a subsidiary of Oneida, Ltd, Lawrenceville, GA

TA-W-57,139; Brooks Software, div. of Brooks Automation, Inc., Phoenix, AZ

TA-W-57,059; Dell Financial Services, Austin, TX

TA-W-57,032; Symbol Technologies, Lake Forest, CA

TA-W-57,191 & A; Intradeco Apparel, Distribution Center, Medley, FL and Merchandising Office, New York, NY

TA-W-57,023; Exxon Mobil Fuels Marketing Company Dallas, TX

TA-W-57,024; Bank of America, Financial Shared Services Div., San Francisco, CA

TA-W-57,185; Electronic Data Systems, Green Bay, WI

TA-W-57,063; Global Shared Services, Application Services, a div. of Bristol Myers Squibb Company, Princeton, NJ

TA-W-57,034; Grover Industries, Inc., Grover Plant Div., Grover, NC

TA-W-57,179; Voith Paper Service Northeast, Inc., a subsidiary of Voith Paper, Inc., Farmington, NH

TA-W-57,147; Teleplan Services Oregon, Inc., Subsidiary of Teleplan Holding USA, Hillsboro, OR

The investigation revealed that criterion (a)(2)(A)(I.C) (Increased imports and (a)(2)(B)(II.C) (has shifted production to a foreign country) have not been met.

TA-W-56,898; Eastman Chemical Company, Arkansas Operations Div., Batesville, AR

Affirmative Determinations for Worker Adjustment Assistance

The following certifications have been issued; the date following the company name and location of each determination references the impact date for all workers of such determination.

The following certifications have been issued. The requirements of (a)(2)(A) (increased imports) of Section 222 have been met.

TA-W-57,137; Ox-Yoke Originals, Inc., Milo, ME: May 6, 2004.

TA-W-57,094; Lake Eyelet Manufacturing Co., Inc., Plantsville, CT: May 3, 2004

TA-W-57,105; Twin City Foods, Inc., Lewiston, ID: April 28, 2004.

TA-W-57,106; Westchester Narrow Fabrics, Inc., Milton, PA: April 29, 2004.

TA-W-57,082; The Hall China Company, East Liverpool, OH: April 11, 2004.

TA-W-57,091; Northern Hardwoods, a div. of Hardwood Lumber Manufacturing, Dimension Plant, South Range, MI: May 2, 2004.

TA-56,745; Trane Industrial Sheet Metal Plant, a div. of American Standard Companies, Rockingham, NC: March 1, 2004.

TA-W-56,984; Robert Bosch Corp., Automotive Chassis Div., St. Joseph, MI: April 11, 2004.

TA-W-57,039; Davlyn Manufacturing Co., Inc., Spring City, PA: April 22, 2004.

TA-W-57,050; Emcore Corp., including on-site leased workers from Aerotec of California, Alhambra, CA: April 14, 2004.

TA-W-56,954; Bama Spinning, Inc., Henagar, AL: April 13, 2004.

TA-W-56,843; Ozburn-Hessey Logistics, Leased workers on-site at Murray, Inc., Lawrenceburg, TN: March 15, 2004.

TA-W-57,263; Whaling Mfg. Co., Inc., Fall River, MA: May 26, 2004.

TA-W-57,020; Getinge Sourcing, LLC, Rochester, NY: July 13, 2004.

TA-W-57,056; Precise Technology, Inc., Polestar Plant, State College, PA: April 26, 2004.

TA-W-57,132; Anderson Precision, Inc., Jamestown, NY: April 27, 2004.

TA-W-57,146; Shamiana, Inc., San Francisco, CA: May 5, 2004.

TA-W-57,148; Hohenwald Thermal Plant, Hohenwald, TN: May 3, 2004.

TA-W-57,160; Jabo, Inc., K-B Production Co., Division, Reno, OH: May 12, 2004.

TA-W-57,074; Robinson-Ransbottom Pottery Company, a subsidiary of Brittany Corp., Roseville, OH: April 22, 2004.

TA-W-56,996; Alcoa, Indiana Assembly and Fabricating Center, Alcoa Advanced Transportation Systems Div., Auburn, IN: April 12, 2004.

TA-W-56,938; Fab-Knit Ltd, Waco, TX: April 5, 2004.

TA-W-56,957; Kone, Inc., Elevator Div., McKinney, TX: March 31, 2004.

TA-W-56,918; Parker Hannifin Corp., Automotive Connection Div., Trumann, AR: April 7, 2004.

TA-W-56,999; Deringer-Ney, Inc., Mundelein, IL: April 12, 2004.

TA-W-56,964; Hartmann-Conco, Inc., Rock Hill, SC: April 7, 2004.

TA-W-57,097; Stockmen's, LLC, Lawton, IA: May 3, 2004.

TA-W-57,064; Qualipac America Corp., including leased workers from Tuttle Agency of New Jersey, Wayne, NJ: April 27, 2004.

TA-W-56,958; Gerdau Ameristeel, Perth Amboy, NJ: April 12, 2004.

TA-W-57,026; Cape Shoe Company, Cape Girardeau, MO: April 19, 2004.

TA-W-56,971; Lenox, Inc., Pomona, NJ: April 13, 2004.

TA-W-57,045; Locklear Hosiery, Inc., Fort Payne, AL: April 6, 2004.

TA-W-57,102; Sharon Young, Inc., Dallas, TX: May 2, 2004.

TA-W-57,022; Rohm and Haas Company, Bayport Plant, LaPorte, TX: April 21, 2004.

TA-W-56,966; U.S. Amps, Inc., Gainesville, FL: April 8, 2004.

TA-W-57,002 &A; Geray Fabrics, Inc., New York, NY and Morganville, NJ: April 18, 2004.

TA-W-56,985 &A; Oneida Ltd, Main Plant, Sherrill, NY, Sales Office, Oneida, NY: April 1, 2005.

TA-W-56,985B; Oneida Ltd, Distribution Facility, Sherrill, NY: April 6, 2004.

TA-W-56,852; Akzo Nobel, a div. of Akzo Nobel N.V., Coatings Resins Div., New Brunswick, NJ: March 11, 2004.

TA-W-57,095; EMI-G Knitting, Inc., Fort Payne, AL: May 2, 2004.

TA-W-56,968; Ames True Temper Co., North Vernon, IN: March 14, 2004.

TA-W-56,960; Kern Manufacturing, a subsidiary of Leading Lady, Cutting and Sewing Workers, Neoga, IL: April 12, 2004.

TA-W-56,947; Morad Manufacturing, Inc., Sikeston, MO: March 30, 2004.

TA-W-56,941; American Greetings Industries, Inc., d/b/a AGI Schutz, a subsidiary of American Greetings Corp., Merchandising Div., including leased workers of Coxe Personnel Services, Inc., Forest City, NC: April 4, 2004.

TA-W-56,931; Westpoint Stevens, Inc., Sparks Plant, Basic Bedding Division, including on-site leased workers from Express Personnel and Personnel Services, Sparks, NV: April 11, 2004.

TA-W-56,797; General Electric, Motors and Controls Div., Taylor Street Location, Fort Wayne, IN: All workers engaged in activities related to the production of AC motors who became totally or partially separated from employment on or after March 16, 2004.

TA-W-56,797A; General Electric, Motors and Controls Division, Broadway Location, Fort Wayne, IN: March 16, 2004.

TA-W-57,099; Rada, Inc., San Francisco, CA: April 22, 2004.

The following certifications have been issued. The requirements of (a) (2) (B) (shift in production) of Section 222 have been met.

TA-W-57,115; BASF Corp., Coatings Div., Southfield, MI: April 26, 2004.

TA-W-57,093; Amco Convertible Fabrics, Specialty Products, Adrian, MI: April 29, 2004.

TA-W-57,089; Ethicon, a div. of Johnson & Johnson, San Angelo, TX: May 1, 2004.

TA-W-57,062; Burner Systems International, Inc., Mansfield, OH: May 3, 2004.

TA-W-57,062; Fisher Scientific Company LLC, Laboratory Equipment Div., a div. of Fisher Scientific International, Inc., Indiana, PA: April 26, 2004.

TA-W-57,210; Printronic, Inc., MF FRET 2, Including on-site leased workers from Aerotek, Irvine, CA: May 18, 2004.

TA-W-57,104; Matsushita Electronic Materials, Inc., a subsidiary of Matsushita Electric Works, including on-site workers from Aromat Corp., and leased on site workers from Flexforce Temporary Staffing, Forest Grove, OR: May 3, 2004.

TA-W-57,135; Elite Textiles Ltd, Abermarle, NC: April 29, 2004.

TA-W-57,076; Plasco, Div. of Microtek Medical, Inc., Gurnee, IL: April 29, 2004.

TA-W-57,220; Geiger of Austria, Inc., Middlebury, VT: May 12, 2004.

TA-W-57,152; All-Luminum Products, Inc., d/b/a Rio Brands, including on-site leased workers of Goldstar Services, Philadelphia, PA: May 9, 2004.

TA-W-57,107 &A; Seaboard Atlantic Garment, Inc., including on-site leased workers of First Choice Staffing, East Syracuse, NY, Bethlehem Dye House Div., including on-site leased workers of First Choice Staffing, Bethlehem, PA: May 2, 2004.

TA-W-57,070; Royal Home Fashions, a subsidiary of Croscill, Inc., Plant 8, Oxford, NC: April 28, 2004.

TA-W-57,054; Transpro, Inc., Buffalo, NY: April 26, 2004.

TA-W-57,036; CRI Advantage, Inc., leased on-site workers at Hewlett-Packard Company, imaging & Printing Group-Technology Platforms Div., Corvallis, OR: April 19, 2004.

TA-W-57,029; Hamilton Sunstrand, including leased workers of Manpower, a div. of United Technologies, Grand Junction, CO: April 18, 2004.

TA-W-56,893; Dayton Superior Corp., Tremont, PA: March 16, 2004.

TA-W-57,004; Monte Glove Company, Maben, MS: April 6, 2004.

TA-W-56,980; Tecumseh Power Co., New Holstein Operations, a subsidiary of The Tecumseh Products Co., New Holstein, WI: February 28, 2005.

TA-W-56,973; J.J.'s Mae, d/b/a Rainbeau, San Francisco, CA: April 1, 2004.

TA-W-57,184; Creative Nail Design, including leased workers of Select Temporary Agency, Vista, CA: May 16, 2004.

TA-W-57,075; Accuride International, Inc., Santa Fe Springs, CA: March 13, 2005.

TA-W-57,031; Pilling/Weck, a subsidiary of Teleflex, including on-site leased workers of Aerotek, Horsham, PA: April 20, 2004.

TA-W-56,927; Black's Frames, Inc., Lincolnton, NC: April 6, 2004.

TA-W-57,042; KMedic, including on-site leased workers of Aerotek, Northvale, NJ: April 20, 2004.

TA-W-57,015D; Honeywell, Inc., ACS: Sensing & Control Div., Commercial & Precision Thermostats, including on-site leased workers of Manpower, Inc., and Metz Personnel, Pawtucket, RI: May 17, 2005.

TA-W-57,120; MMG North America Corp., a div. of TT Electronics PLC, Paterson, NJ: December 17, 2004.

The following certifications have been issued. The requirement of upstream supplier to a trade certified primary firm has been met.

TA-W-57,161; Labinal-Corinth, Inc., a subsidiary of Safran, Corinth, TX: May 12, 2004.

Negative Determinations for Alternative Trade Adjustment Assistance

In order for the Division of Trade Adjustment Assistance to be issued a certification of eligibility to apply for Alternative Trade Adjustment Assistance (ATAA) for older workers, the group eligibility requirements of Section 246(a)(3)(A)(ii) of the Trade Act must be met.

In the following cases, it has been determined that the requirements of Section 246(a)3)ii) have not been met for the reasons specified.

The Department has determined that criterion (2) of Section 246 has not been met. Workers at the firm possess skills that are easily transferable.

TA-W-56,931; Westpoint Stevens, Inc., Sparks Plant, Basic Bedding Div., including on-site leased workers from Express Personnel and Personnel Services, Sparks, NV

TA-W-56,968; Ames True Temper Co., North Vernon, IN

TA-W-56,852; Akzo Nobel, a div. of Akzo Nobel N.V., Coatings and Resins Div., New Brunswick, NJ

TA-W-57,002 & A; Geray Fabrics, Inc., New York, NY and Morganville, NJ

TA-W-56,966; U.S. Amps, Inc., Gainesville, FL

TA-W-57,022; Rohm and Haas Co., Bayport Plant, LaPorte, TX

TA-W-57,031; Pilling/Weck, a subsidiary of Teleflex, including on-site leased workers of Aerotek, Horsham, PA

TA-W-57,075; Accuride International, Inc., Santa Fe Springs, CA

The Department has determined that criterion (1) of Section 246 has not been met. Workers at the firm are 50 years of age or older.

TA-W-57,095; EMI-G Knitting, Inc., Fort Payne, AL

Since the workers are denied eligibility to apply for TAA, the workers cannot be certified eligible for ATAA.

TA-W-57,015; Honeywell, Inc., ACS: Sensing & Control Div., Flex Heaters and Flex Fab, including on-site leased workers of Manpower, Inc., and Metz Personnel Pawtucket, RI, A; Support Staff, including on-site leased workers of Manpower, Inc., and Metz Personnel, Pawtucket, RI, B; Thermal Cut Offs (TCO), including on-site leased workers of Manpower, Inc., and Metz Personnel, Pawtucket, RI and C; Thermistor/Probe, including on-site leased workers of Manpower, Inc., and Metz Personnel, Pawtucket, RI

TA-W-57,016; Smurfit-Stone Container, Container Div., Statesville, NC

TA-W-57,088; Cenveo, d/b/a Mailwell Graphics, Cambridge, MD

TA-W-57,013; Fiberzone Technologies, Inc., a div. of Aqua Dynamics Systems, Inc., Adamsville, TN

TA-W-56,907; Energy Conversion Systems LLC, a/k/a Morganite, Inc., Carbon Div., Dunn, NC

TA-W-56,986; Hardwood Products Company, LLC, Guilford, ME

TA-W-57,129; ADM Milling Company, Wellsburg, WV

TA-W-57,170; Ludlow Textiles Company, Ludlow, MA

TA-W-57,154; Victaulic Company of America, Easton, PA

TA-W-57,073; Koplin Optical, Inc, 200 John Hancock Road, a subsidiary of Koplin Corporation, Taunton, MA

TA-W-57,066; Second Chance Body Armor, Inc., Michigan Manufacturing Div., Central Lake, MI

TA-W-57,060; Wolf Range Company, A Business Unit of Illinois Tool Works (ITW), Compton, CA

TA-W-57,047; Woodbridge Corporation a div. of Woodbridge Holdings, Inc., Brodhead, WI

TA-W-56,991; Graham Packaging Plastic Products, Inc., Household Business Unit, St. Louis, MO

TA-W-57,103; Automatic Technology, Inc., Charlotte, NC

TA-W-57,198; Neasi-Weber International, Houston, TX

TA-W-57,043; Haz-Waste, Inc., Working on-site at Continental Tire North America, Mayfield, KY

TA-W-56,795; Aventis, Inc., Commercial Operations, Bridgewater, NJ

TA-W-57,164; Epson Portland, Inc., a subsidiary of Seiko Epson Corp., including on site production workers of Volt Services, Hillsboro, OR

TA-W-56,816; Hewlett Packard Company, Ink Supplies Business Div., Boise, ID, A; Imaging and Printing Group-Business and Printing, Boise, ID, B; Roseville, CA and C; Imaging and Printing Group-Business and Printing, Vancouver, WA

TA-W-57,176; Oneida Home Store, a subsidiary of Oneida, Ltd, Lawrenceville, GA

TA-W-57,139; Brooks Software, div. of Brooks Automation, Inc., Phoenix, AZ

TA-W-57,059; Dell Financial Services, Austin, TX

TA-W-57,191 & A; Intradeco Apparel, Distribution Center, Medley, FL and Merchandising Office, New York, NY

TA-W-57,032; Symbol Technologies, Lake Forest, CA

TA-W-57,023; Exxon Mobil Fuels Marketing Company, Dallas, TX

TA-W-57,024; Bank of America, Financial Shared Services Div., San Francisco, CA

TA-W-57,185; Electronic Data Systems, Green Bay, WI

TA-W-57,063; Global Shared Services, Application Services, a div. of Bristol Myers Squibb Company, Princeton, NJ

TA-W-57,034; Grover Industries, Inc., Grover Plant Div., Grover, NC

TA-W-57,179; Voith Paper Service Northeast, Inc., a subsidiary of Voith Paper, Inc., Farmington, NH

TA-W-56,898; Eastman Chemical Company, Arkansas Operations Div., Batesville, AR

TA-W-56,797; General Electric, Motors and Controls Div., Taylor Street Location, Fort Wayne, IN: All workers engaged in activities related to the production of enameled wire.

TA-W-56,797B; General Electric, Components-Specialty Transformer Div., College Street Location, Fort Wayne, IN

Affirmative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-53,509; Armstrong Floor Products, A Business Unit of Armstrong World Industries, Warren, AR: November 10, 2002 through December 31, 2005.

TA-W-53,276; H. Freeman & Son, Inc., Philadelphia, PA: October 3, 2002 through October 28, 2005.

TA-W-53,029; American Electric Lighting, a div. of Acuity Lighting Group, a subsidiary of Acuity Brands, Inc., Bainbridge, GA: September 15, 2002 through October 10, 2005.

TA-W-52,242; Louisiana Pacific Corp., Belgrade, MT: July 7, 2002 through August 22, 2005.

TA-W-52,316; Louisiana Pacific Corp., Formerly Crown Pacific, Bonners Ferry, ID: June 26, 2002.

TA-W-54,879; Vesuvius USA Corp., Foundry Div., Buffalo, NY: May 3, 2003 June 24, 2006.

TA-W-56,588; Velcorex, Inc., a div. of Dollus Mieg Co., Inc. (DMC), Orangeburg, SC: March 18, 2003.

TA-W-54,637; Rice Mills, Inc., Belton, SC: March 31, 2003 through May 4, 2006.

TA-W-55,346; Hamilton Beach/Proctor Silex, Inc., Southern Pines, NC: July 19, 2003 through August 12, 2006.

TA-W-57,161; Labinal-Corinth, Inc., a subsidiary of Safran, Corinth, TX: May 12, 2004.

TA-W-57,015D; Honeywell, Inc., ACS: Sensing & Control Div., Commercial & Precision Thermostats, including on-site leased workers of Manpower, Inc., and Metz Personnel, Pawtucket, RI: May 17, 2005.

TA-W-57,184; Creative Nail Design, including leased workers of Select Temporary Agency, Vista, CA: May 16, 2004.

TA-W-56,973; J.J.'s Mae, d/b/a Rainbeau, San Francisco, CA: April 1, 2004.

TA-W-56,980; Tecumseh Power Co., New Holstein Operations, a subsidiary of The Tecumseh Products Company, New Holstein, WI: February 28, 2005.

TA-W-57,004; Monte Glove Company, Maben, MS: April 6, 2004.

TA-W-56,893; Dayton Superior Corp., Tremont, PA: March 16, 2004.

TA-W-57,029; Hamilton Sunstrand, including leased workers of Manpower, a div. of United Technologies, Grand Junction, CO: April 18, 2004.

TA-W-57,054; Transpro, Inc., Buffalo, NY: April 26, 2004.

TA-W-57,036; CRI Advantage, Inc., leased on-site workers at Hewlett-Packard Co., Imaging and Printing Group-Technology Platforms Div., Corvallis, OR: April 19, 2004.

TA-W-57,070; Royal Home Fashions, a subsidiary of Croscill, Inc., Plant 8, Oxford, NC: April 28, 2004.

TA-W-57,107 & A; Seaboard Atlantic Garment, Inc., including on-site leased workers of First Choice Staffing, East Syracuse, NY and Bethlehem Dye House Div., including on-site leased workers of First Choice Staffing, Bethlehem, PA: May 2, 2004.

TA-W-57,152; All-Luminum Products, Inc., d/b/a Rio Brands, including on-site leased workers of Goldstar Services, Philadelphia, PA: May 9, 2004.

TA-W-57,220; Geiger of Austria, Inc., Middlebury, VT: May 12, 2004.

TA-W-57,076; Plasco, Div. of Microtek Medical, Inc., Gurnee, IL: April 29, 2004.

TA-W-57,135; Elite Textiles Ltd, Abermarle, NC: April 29, 2004.

TA-W-57,210; Printronix, Inc., MF FRET 2, including on-site leased workers from Aerotek, Irvine, CA: May 18, 2004.

TA-W-57,137; Ox-Yoke Originals, Inc., Milo, ME: May 6, 2004.

TA-W-57,104; Matsushita Electronic Materials, Inc., a subsidiary of Matsushita Electric Works, including on-site workers from Aromat Corp., and leased on-site workers from Flexforce Temporary Staffing, Forest Grove, OR: May 3, 2004.

TA-W-57,062; Fisher Scientific Company LLC, Laboratory Equipment Div., a div. of Fisher Scientific International, Inc., Indiana, PA: April 26, 2004.

TA-W-57,166; Burner Systems International, Inc., Mansfield, OH: May 3, 2004.

TA-W-57,089; Ethicon a div. of Johnson & Johnson, San Angelo, TX: May 1, 2004.

TA-W-57,093; Amco Convertible Fabrics, Specialty Products, Adrian, MI: April 29, 2004.

TA-W-56,797; General Electric, Motors and Controls Div., Taylor Street Location, Fort Wayne, IN: All engaged in activities related to the production of AC motors who became totally or partially separated from employment on or after March 16, 2004.

TA-W-56,797A; General Electric, Motors and Controls Div., Broadway Location, Fort Wayne, IN: March 16, 2004.

TA-W-56,985 & A, B; Oneida Ltd, Main Plant, Sherrill, NY, Sales Office, Oneida, NY and Distribution Facility, Sherrill, NY: April 6, 2004.

TA-W-57,102; Sharon Young, Inc., Dallas, TX: May 2, 2004.

TA-W-57,045; Locklear Hosiery, Inc., Fort Payne, AL: April 6, 2004.

TA-W-56,971; Lenox, Inc., Inc., Pomona, NJ: April 13, 2004.

TA-W-57,026; Cape Shoe Company, Cape Girardeau, MO: April 19, 2004.

TA-W-56,958; Gerdau Ameristeel, Perth Amboy, NJ: April 12, 2004.

TA-W-57,064; Qualipac America Corp., including leased workers from Tuttle Agency of New Jersey, Wayne, NJ: April 27, 2004.

TA-W-57,097; Stockmen's LLC, Lawton, IA: May 3, 2004.

TA-W-56,964; Hartmann-Conco, Inc., Rock Hill, SC: April 7, 2004.

TA-W-56,999; Deringer-Ney, Inc., Mundelein, IL: April 12, 2004.

TA-W-56,918; Parker Hannifin Corp., Automotive Connection Div., Trumann, AR: April 7, 2004.

TA-W-56,938; Fab-Knit Ltd, Waco, TX: April 5, 2004.

TA-W-56,957; Kone, Inc., Elevator Div., McKinney, TX: March 31, 2004.

TA-W-56,996; Alcoa, Indiana Assembly and Fabricating Center, Alcoa Advanced Transportation Systems Div., Auburn, IN: April 12, 2004.

TA-W-57,074; Robinson-Ransbottom Pottery Company, a subsidiary of Brittany Corp., Roseville, OH: April 22, 2004.

TA-W-57,160; Jabo, Inc., K-B Production Company, Division, Reno, OH: May 12, 2004.

TA-W-57,148; Hohenwald Thermal Plant, Hohenwald, TN: May 3, 2004.

TA-W-57,146; Shamiana, Inc., San Francisco, CA: May 5, 2004.

TA-W-57,132; Anderson Precision, Inc., Jamestown, NY: April 27, 2004.

TA-W-57,056; Precise Technology, Inc., Polestar Plant State College, PA: April 26, 2004.

TA-W-57,020; Getinge Sourcing, LLC, Rochester, NY: July 13, 2004.

TA-W-57,263; Whaling Mfg. Co., Inc., Fall River, MA: May 26, 2004.

TA-W-56,843; Ozburn-Hessey Logistics, leased workers on-site at Murray, Inc., Lawrenceburg, TN: March 15, 2004.

TA-W-56,954; Bama Spinning, Inc., Henagar, AL: April 13, 2004.

TA-W-57,039; Davlyn Manufacturing Co., Inc., Spring City, PA: April 22, 2004.

TA-W-57,050; Emcore Corp., including leased workers from on-site Aerotec of California, Alhambra, CA: April 14, 2004.

TA-W-56,984; Robert Bosch Corp., Automotive Chassis Div., St. Joseph, MI: April 11, 2004.

TA-W-56,745; Trane Industrial Sheet Metal Plant, a div. of American Standard Companies, Rockingham, NC: March 1, 2004.

TA-W-57,091; Northern Hardwoods, a div. of Hardwood Lumber Manufacturing, Dimension Plant, South Range, MI: May 2, 2004.

TA-W-57,082; The Hall China Co., East Liverpool, OH: April 11, 2004.

TA-W-57,106; Westchester Narrow Fabrics, Inc., Milton, PA: April 29, 2004.

TA-W-57,105; Twin City Foods, Inc., Lewiston, ID: April 28, 2004.

TA-W-57,094; Lake Eyelet Manufacturing Co., Inc., Plantsville, CT: May 3, 2004.

I hereby certify that the aforementioned determinations were issued during the months of May and June 2005. Copies of these determinations are available for inspection in Room C-5311, U.S. Department of Labor, 200 Constitution Avenue, NW., Washington, DC 20210 during normal business hours or will be mailed to persons who write to the above address.

Dated: June 17, 2005.
Timothy Sullivan,
Director, Division of Trade Adjustment Assistance.

[FR Doc. E5-3361 Filed 6-27-05; 8:45 am]

BILLING CODE 4510-30-P